DEPARTMENT OF COMMERCE

Foreign-Trade Zones Board

[B-81-2013]

Foreign-Trade Zone (FTZ) 7—Mayaguez, Puerto Rico; Notification of Proposed Production Activity; Puma Energy Caribe, LLC (Biodiesel Blending); Bayamon, Puerto Rico

Puma Energy Caribe, LLC (Puma Energy) submitted a notification of proposed production activity to the FTZ Board for its facility in Bayamon, Puerto Rico within Subzone 7F. The notification conforming to the requirements of the regulations of the FTZ Board (15 CFR 400.22) was received on August 26, 2013.

Puma Energy already has authority to conduct certain standard refinery operations involving crude oil and petroleum products within Subzone 7F. The current request would add the blending of biodiesel to the scope of authority. Pursuant to 15 CFR 400.14(b), additional FTZ authority would be limited to the specific foreign-status materials and components and specific finished products described in the submitted notification (as described below) and subsequently authorized by the FTZ Board.

Production under FTZ procedures could exempt Puma Energy from customs duty payments on the foreign status component used in export production. On its domestic sales, Puma Energy would be able to choose the duty rates during customs entry procedures that apply to renewable diesel blends (duty rate—10.5¢/barrel) for the foreign status inputs noted below and in the existing scope of authority. Customs duties also could possibly be deferred or reduced on foreign status production equipment.

The component sourced from abroad is: Fatty acid methyl ester meeting the specification of biodiesel (B100) (duty rate—4.6%).

Public comment is invited from interested parties. Submissions shall be addressed to the Board's Executive Secretary at the address below. The closing period for their receipt is October 15, 2013.

A copy of the notification will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

For further information, contact Elizabeth Whiteman at Elizabeth.Whiteman@trade.gov or (202) 482-0473.

Dated: August 27, 2013.
Andrew McGilvray,
Executive Secretary.

[FR Doc. 2013-21638 Filed 9-4-13; 8:45 am]

BILLING CODE 3510-DS-P